INTERNATIONAL TRADE COMMISSION

[Investigation No. 337-TA-698]

In the Matter of: Certain DC-DC Controllers and Products Containing Same; Notice of Commission Decision Not To Review the Administrative Law Judge's Initial Determination Granting Complainants' Motion To Amend the Complaint and Notice of Investigation

AGENCY: U.S. International Trade Commission.

ACTION: Notice.

SUMMARY: Notice is hereby given that the U.S. International Trade Commission has determined not to review the presiding administrative law judge's initial determination (“ID”) (Order No. 19) granting complainants' motion to amend the complaint and notice of investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 29, 2009, based on a complaint filed by Richtek Technology Corp. of Taiwan and Richtek USA, Inc. of San Jose, California (“Richtek”), alleging a violation of section 337 in the importation, sale for importation, and sale within the United States after importation of certain DC-DC controllers by reason of infringement of certain claims of U.S. Patent Nos. 7,315,190 (“the '190 patent”); 6,414,470; and 7,132,717, and by reason of trade secret misappropriation. 75 FR 446 (Jan. 5, 2010). The complaint named five respondents. On March 5, 2010, the ALJ granted Richtek's motion to allow Richtek to add three new respondents and to correct the name of another; an ID issued. Order No. 6 (Mar. 5, 2010). On March 31, 2010, the Commission determined not to review that ID. 75 FR 17433-34 (Apr. 6, 2010).

On April 12, 2010, Richtek moved for leave to amend its complaint to assert dependent claims 8-11 of the '190 patent on the basis of newly discovered evidence produced by the respondents in this investigation. Independent claim 1 of the '190 patent (upon which claims 8-11 depend) had always been asserted in this investigation. On April 20, 2010, the respondents filed their opposition, arguing that Richtek's two-month delay in asserting these patent claims caused them prejudice. The next day, the Commission's investigative attorney filed a response indicating that she did not oppose the motion.

On April 22, 2010, the ALJ issued an ID granting Richtek's motion. Order No. 19 (Apr. 22, 2010). The ID found good cause for Richtek's delay and tacitly rejected the respondents' allegations of prejudice. Id. at 6-7.

No petitions for review of the ID were filed. The Commission has determined not to review the ID.

The authority for the Commission's determination is contained in section 337 of the Tariff Act of 1930, as amended (19 U.S.C. 1337), and in section 210.42 of the Commission's Rules of Practice and Procedure (19 CFR 210.42).

By order of the Commission.
Issued: May 14, 2010.
Marilyn R. Abbott,
Secretary to the Commission.

[FR Doc. 2010-12101 Filed 5-19-10; 8:45 am]

BILLING CODE 7020-02-P